NUCLEAR REGULATORY COMMISSION

Notice of Sunshine Act Meeting

Agency Holding the Meetings: Nuclear Regulatory Commission.

DATES: Weeks of May 4, 11, 18, 25, June 1, 8, 2009.

Place: Commissioners' Conference Room, 11555 Rockville Pike, Rockville, Maryland.

Status: Public and Closed.

Week of May 4, 2009

There are no meetings scheduled for the week of May 4, 2009.

Week of May 11, 2009—Tentative

Thursday, May 14, 2009

9 a.m.

Briefing on the Results of the Agency Action Review Meeting (Public Meeting). (Contact: Shaun Anderson, 301-415-2039.)

This meeting will be webcast live at the Web address— http://www.nrc.gov.

Week of May 18, 2009—Tentative

There are no meetings scheduled for the week of May 18, 2009.

Week of May 25, 2009—Tentative

Wednesday, May 27, 2009

9:30 a.m.

Briefing on External Safety Culture (Public Meeting). (Contact: Stewart Magruder, 301-415-8730.)

This meeting will be webcast live at the Web address— http://www.nrc.gov.

Wednesday, May 27, 2009

1:30 p.m.

Briefing on Internal Safety Culture (Public Meeting). (Contact: June Cai, 301-415-5192.)

This meeting will be webcast live at the Web address— http://www.nrc.gov.

Thursday, May 28, 2009

9:30 a.m.

Briefing on Fire Protection Closure Plan (Public Meeting). (Contact: Alex Klein, 301-415-2822.)

This meeting will be webcast live at the Web address— http://www.nrc.gov.

Week of June 1, 2009—Tentative

Wednesday, June 3, 2009

9:30 a.m.

Briefing on New Reactor Issues—Component Fabrication and Oversight—Part 1 (Public Meeting).

1:30 p.m.

Briefing on New Reactor Issues—Component Fabrication and Oversight—Part 2 (Public Meeting). (Contact for both parts: Roger Rihm, 301-415-7807.)

Both parts of this meeting will be webcast live at the Web address— http://www.nrc.gov.

Thursday, June 4, 2009

9:30 a.m.

Briefing on Digital Instrumentation and Control (Public Meeting). (Contact: Steve Arndt, 301-415-6502.)

This meeting will be webcast live at the Web address— http://www.nrc.gov.

1:30 p.m.

Meeting with the Advisory Committee on Reactor Safeguards (Public Meeting). (Contact: Tanny Santos, 301-415-7270.)

This meeting will be webcast live at the Web address— http://www.nrc.gov.

Week of June 8, 2009—Tentative

There are no meetings scheduled for the week of June 8, 2009.

* * * * *

*The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: April 30, 2009.
Rochelle C. Bavol,
Office of the Secretary.

[FR Doc. E9-10552 Filed 5-4-09; 11:15 am]

BILLING CODE 7590-01-P